DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Toolkit Protocol for the Crisis Counseling Assistance and Training Program (CCP)—Revision

The Substance Abuse and Mental Health Services Administration's (SAMHSA) Center for Mental Health Services (CMHS) will create a toolkit to be used for the purposes of collecting data on the Crisis Counseling Assistance and Training Program (CCP). The CCP provides supplemental funding to states and territories for individual and community crisis intervention services during a federal disaster.

The CCP has provided disaster mental health services to millions of disaster survivors since its inception and, as a result of 30 years of accumulated expertise, it has become an important model for Federal response to a variety of catastrophic events. State CCPs, such as Project HOPE (after Hurricane Floyd in North Carolina), Project Heartland (in Oklahoma City after the Murrah Federal Building bombing), Project Liberty (in New York after 9/11), and Project Outreach for Recovery (after the Rhode Island nightclub fire) have primarily addressed the short-term mental health needs of communities through (a) outreach and public education, (b) individual and group counseling, and (c) referral. Outreach and public education serve primarily to normalize reactions and to engage people who might need further care. Crisis counseling assists survivors to cope with current stress and symptoms in order to return to predisaster functioning. Crisis counseling relies largely on “active listening,” and crisis counselors also provide psycho-education (especially about the nature of responses to trauma) and help clients build coping skills. Crisis counseling typically continues no more than a few times. Because crisis counseling is time-limited, referral is the third important function of CCPs. Counselors are expected to refer clients to formal treatment if the person has developed more serious psychiatric problems.

Data about services delivered and users of services will be collected throughout the program period. The data will be collected via the use of a toolkit that relies on standardized forms. At the program level, the data will be entered quickly and easily into a cumulative database to yield summary tables for quarterly and final reports for the program. We have confirmed the feasibility of using scanable forms for most purposes. Because the data will be collected in a consistent way from all programs, they can be uploaded into an ongoing national database that likewise provides CMHS with a way of producing summary reports of services provided across all programs funded.

The components of the toolkit are listed and described below:

• Encounter logs. These forms document all services provided. Completion of these logs is required by the crisis counselors. There are three types of encounter logs:

(1) Individual Crisis Counseling Services Encounter Log. Crisis counseling is defined as an interaction that lasts at least 15 minutes and involves participant disclosure. This form is completed by the crisis counselor for each service recipient, defined as the person or persons who actively participated in the session (e.g., by verbally participating), not someone who is merely present. For families, crisis counselors complete separate forms for all family members who are actively engaged in the visit. Information collected includes demographics, service characteristics, risk factors, event reactions, and referral data.

(2) Group Encounter Log. This form is used to identify either a group crisis counseling encounter or a group public education encounter. A check at the top identifies the class of activities (i.e., counseling or education). Information collected includes services characteristics, group identity and characteristics, and group activities.

(3) Weekly Tally Sheet. This form documents brief educational and supportive encounters not captured on any other form. Information collected includes service characteristics, daily tallies and weekly totals for brief educational or supportive contacts and material distribution with no or minimal interaction.

○ Assessment and Referral Tools. Generally, the forms are used as an interview guide with adults or children/youth (i.e., please note that the child/youth tool is NEW to the data toolkit) who have received individual crisis counseling on two or more occasions for those individuals that may need referral to further and more intensive services. However, these tools may be used at any time that a crisis counselor suspects that an individual is experiencing serious reactions to the disaster. Typically, these tools will be used beginning three months post-disaster and will be completed by the crisis counselor or team leader.

○ Adult Assessment and Referral Tool—This tool includes the collection of information on characteristics of the encounter, risk categories, and demographics. The tool also includes the SPRINT-E, an 11-item measure of post-disaster distress including but not limited to symptoms of post traumatic stress disorder (PTSD).

○ Child/Youth Assessment and Referral Tool (NEW)—This tool includes the collection of information on risk factors, demographics, and 15 items from the University of California Los Angeles (UCLA) Reaction Index to assess post-disaster symptoms; additional items are also included for the parents to rate their child's feelings and behavior.

• Participant Feedback. These surveys are completed by and collected from a sample of service recipients, not every recipient. A time sampling approach (e.g., soliciting participation from all counseling encounters one week per quarter) will be used. Information collected includes satisfaction with services, perceived improvements in self-functioning, types of exposure, and event reactions.

• CCP Service Provider Feedback. These surveys are completed by and collected from the CCP service providers (i.e., crisis counselors) anonymously at approximately six months and one year post-event. The items on this form relate to the training, work environment, and level of job stress experienced by the crisis counselor. The survey will be coded on several program-level and worker-level variables to be shared with program management for review.

Data collection point | Number of respondents | Responses per respondent | Total responses | Hours per response | Total hour burden | Hourly rate | Total hour cost
Individual Crisis Counseling Services Encounter Log Form | ¹ 200 | ² 396 | 79,200 | .08 | 6,336 | $20 | $126,720
Group Encounter Log Form | ³ 100 | ³ 99 | 9,900 | .04 | 396 | 20 | 7,920
Weekly Tally Sheet | ¹ 200 | ⁴ 33 | 6,600 | .10 | 660 | 20 | 13,200
Assessment & Referral Tools | ¹ 200 | ⁵ 158 | 31,600 | .15 | 4,740 | 20 | 94,800
Participant Feedback | 1,000 | 1 | 1,000 | .15 | 150 | 20 | 3,000
CCP Service Provider Feedback | ⁶ 100 | 1 | 100 | .15 | 15 | 20 | 300
Total |  |  | 128,400 |  | 12,297 |  | 245,940
¹ 200 is based on typical average of 10 (1.00 FTE) crisis counselors per grant with an approximate average of 20 grants per year (i.e., 10 × 20 = 200).
² Average of 12 forms per week for each crisis counselor at 33 weeks that includes both Immediate Services and Regular Services Programs (i.e., 12 × 33 = 396).
³ Average of 3 forms per week for a pair of crisis counselors (i.e., 2 counselors completing 1 form = 100 crisis counselors) at 33 weeks that includes both Immediate Services and Regular Services Programs (3 × 33 = 99).
⁴ Average of 33 weeks for each grant that includes both Immediate Services and Regular Services Programs.
⁵ On average 30% of crisis encounters may result in the use of this optional tool.
⁶ On average 50% of service providers/crisis counselors may complete or use this optional tool.

Written comments and recommendations concerning the proposed information collection should be sent by October 9, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 28, 2008.
Elaine Parry,
Acting Director, Office of Program Services.

[FR Doc. E8-20884 Filed 9-8-08; 8:45 am]

BILLING CODE 4162-20-P